DEPARTMENT OF DEFENSE

Office of the Secretary

Defense Science Board

AGENCY: Department of Defense.

ACTION: Notice of advisory committee meeting date changes.

SUMMARY: On Monday, March 12, 2001 (66 FR 14359) the Department of Defense announced closed meetings of the Defense Science Board (DSB) Task Force on Intelligence Needs for Homeland Defense. These meetings have been rescheduled from June 25-26, 2001, to June 26-27, 2001; and from July 23-24, 2001, to July 24-25, 2001.

Both meetings will be held at Strategic Analysis Inc., 3601 Wilson Boulevard, Suite 600, Arlington, VA.

Dated: June 21, 2001.
L. M. Bynum,
Alternate OSD Federal Register Liaison Officer, Department of Defense.

[FR Doc. 01-16030 Filed 6-26-01; 8:45 am]

BILLING CODE 5001-08-M